NUCLEAR REGULATORY COMMISSION

[NRC-2009-0262]

Draft Regulatory Guide: Re-Issuance and Availability

AGENCY: Nuclear Regulatory Commission.

ACTION: Notice of Re-Issuance and Availability of Draft Regulatory Guide, DG-3037.

FOR FURTHER INFORMATION CONTACT: Kevin Morrissey, U.S. Nuclear Regulatory Commission, Washington, DC 20555-0001, telephone: 301-492-3130, e-mail: Kevin.Morrissey@nrc.gov, or, R. A. Jervey, telephone: 301-251-7404, e-mail: Richard.Jervey@nrc.gov.

SUPPLEMENTARY INFORMATION:

I. Introduction

The U.S. Nuclear Regulatory Commission (NRC) is issuing for public comment a draft guide in the agency's “Regulatory Guide” series. This series was developed to describe and make available to the public information and methods that are acceptable to the NRC staff for implementing specific parts of the NRC's regulations, techniques that the staff uses in evaluating specific problems or postulated accidents, and data that the staff needs in its review of applications.

The draft regulatory guide (DG), entitled, “Guidance for Fuel Cycle Facility Change Processes,” is temporarily identified by its task number, DG-3037, which should be mentioned in all related correspondence. DG-3037 will be a new regulatory guide. The guide was previously issued for public comment on June 29, 2009 (74 FR 31073). Public comments on the 2009 draft, and the NRC responses to those comments, may be found in the NRC's Agencywide Document Access and Management System (ADAMS) under Accession Number ML100890028. As a result of considerations raised by stakeholders during the earlier public comment period, and ongoing NRC policy development, the 2009 draft DG-3037 has been revised, and the NRC is providing a comment period for members of the public to consider the re-issued draft DG-3037.

Title 10 of the Code of Federal Regulations, Part 70, “Domestic Licensing of Special Nuclear Material” (10 CFR Part 70) contains the regulations applicable to fuel cycle facility licensees that possess greater than a critical mass of special nuclear material. Such licensees are authorized to engage in enriched uranium processing, fabrication of uranium fuel or fuel assemblies, uranium enrichment, enriched uranium hexafluoride conversion, plutonium processing, and fabrication of mixed-oxide fuel or fuel assemblies. DG-3037 provides guidance on how to meet the requirements of 10 CFR 70.72, “Facility changes and change process.” with emphasis on the screening that is necessary to separate changes that do and do not require prior NRC approval.

Fuel cycle facility licensees are required by 10 CFR 70.72(a) to establish a configuration management system to evaluate, implement, and track each change to the site, structures processes, systems, equipment, components, computer programs, and activities of personnel. Such changes may be made by the licensee without prior approval of the NRC, provided that the changes meet the criteria of 10 CFR 70.72(c).

In a separate action, the NRC is developing guidance regarding a process for submitting requests to allow changes during construction for power reactors under 10 CFR Part 52, “Licenses, Certifications, and Approvals for Nuclear Power Plants.” The changes during construction guidance will be published in draft form for comment. After the changes during construction guidance is finalized, the NRC will consider whether similar guidance is appropriate for construction activities at those 10 CFR Part 40 and 10 CFR Part 70 licensed facilities which are subject to integrated safety analysis (ISA) requirements. Thus, DG-3037 may be subject to further revision after the 10 CFR Part 52 guidance is finalized, or separate guidance concerning changes during construction for fuel cycle facilities may be developed,

II. Further Information

The NRC staff is soliciting comments on DG-3037. Comments may be accompanied by relevant information or supporting data and should reference DG-3037 in the subject line. Comments submitted in writing or in electronic form will be made available to the public in their entirety through the NRC's Agencywide Documents Access and Management System (ADAMS).

ADDRESSES: Please include Docket ID NRC-2009-0262 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2009-0262. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory analysis is available electronically under ADAMS Accession Number ML110960217.

• Federal Rulemaking Web Site: Public comments and supporting materials related to this notice can be found at http://www.regulations.gov by searching on Docket ID NRC-2009-0262.

Comments would be most helpful if received by August 12, 2011. Comments received after that date will be considered if it is practical to do so, but the NRC is able to ensure consideration only for comments received on or before this date. Although a time limit is given, comments and suggestions in connection with items for inclusion in guides currently being developed or improvements in all published guides are encouraged at any time.

Electronic copies of DG-3037 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML110960051.

Regulatory guides are not copyrighted, and Commission approval is not required to reproduce them.

Dated at Rockville, Maryland, this 1st day of July, 2011.
For the Nuclear Regulatory Commission.
Edward O'Donnell,
Acting Chief, Regulatory Guide Development Branch, Division of Engineering, Office of Nuclear Regulatory Research.

[FR Doc. 2011-17734 Filed 7-13-11; 8:45 am]

BILLING CODE 7590-01-P